DEPARTMENT OF THE INTERIOR

Bureau of Land Management

[LLCON05000-L16100000.DU0000-16X]

Notice of Meetings, Northwest Resource Advisory Council White River Field Office Travel Management Subgroup

AGENCY: Bureau of Land Management, Interior.

ACTION: Notice of public meeting.

SUMMARY: In accordance with the Federal Land Policy and Management Act and the Federal Advisory Committee Act of 1972, the U.S. Department of the Interior, Bureau of Land Management (BLM) Northwest Resource Advisory Council's (RAC) White River Field Office (WRFO) Travel Management Subgroup will meet as indicated below.

DATES: The Northwest RAC's WRFO Travel Management Subgroup has scheduled two meetings. The first meeting is August 23, 2016, from 1 p.m. to 3 p.m., with a public comment period regarding matters on the agenda at 2 p.m. The second meeting is September 14, 2016, from 9 a.m. to 12 p.m., with a public comment period regarding matters on the agenda at 11 a.m. A specific agenda for each meeting will be available prior to the meetings at http://www.blm.gov/co/st/en/BLM_Resources/racs/nwrac.html.

ADDRESSES: The first meeting (August 23, 2016) will be held at the Meeker Public Library, 490 Main St., Meeker, CO 81641. The second meeting (September 14, 2016) will be held at the BLM WRFO, 220 E. Market St., Meeker, CO 81641.

FOR FURTHER INFORMATION CONTACT: Heather Sauls, Planning and Environmental Coordinator, WRFO, 220 E. Market St., Meeker, CO 81641. Phone: (970) 878-3855. Email: hsauls@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member Northwest RAC advises the Secretary of the Interior, through the BLM, on a variety of planning and management issues associated with public land management in northwest Colorado, which includes the WRFO, Little Snake Field Office, Grand Junction Field Office, Colorado River Valley Field Office and Kremmling Field Office. The Northwest RAC has formed a 12-member Travel Management Subgroup to assist with the WRFO's Travel and Transportation Management Resource Management Plan (RMP) Amendment. The purpose of the meetings is to discuss the RMP Amendment's preliminary alternatives. At the first meeting (August 23, 2016), the focus of the discussion will be to explain the alternatives and the rationale behind them to the Subgroup. At the second meeting (September 14, 2016), the discussion will focus on whether the BLM has developed an adequate range of alternatives and if those alternatives address the planning issues. The Subgroup provides recommendations to the RAC but does not directly advise the BLM. The public may make oral comments to the Subgroup or submit written comments for the Subgroup's consideration. Summary minutes for the Northwest RAC's WRFO Travel Management Subgroup meetings will be maintained in the WRFO and will be available for public inspection and reproduction during regular business hours within thirty (30) days following the meeting.

Ruth Welch,
BLM Colorado State Director.

[FR Doc. 2016-17267 Filed 7-20-16; 8:45 am]

BILLING CODE 4310-JB-P